COMMITTEE FOR PURCHASE FROM PEOPLE WHO ARE BLIND OR SEVERELY DISABLED

Procurement List; Additions and Deletions

AGENCY: Committee for Purchase from People Who are Blind or Severely Disabled.

ACTION: Additions to and Deletions from the Procurement List.

SUMMARY: This action adds products and a service to the Procurement List that will be furnished by nonprofit agencies employing persons who are blind or have other severe disabilities, and deletes products and a service from the Procurement List previously furnished by such agencies.

DATES: Effective Date: February 12, 2017.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 9/23/2016 (81 FR 65629-65630) and 12/9/2016 (81 FR 89086), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s):

6515-00-NIB-0571—Glove, Exam, Nitrile, Non-Latex, Textured, Midknight, Black, Small

6515-00-NIB-0572—Glove, Exam, Nitrile, Non-Latex, Textured, Midknight, Black, Medium

6515-00-NIB-0573—Glove, Exam, Nitrile, Non-Latex, Textured, Midknight, Black, Large

6515-00-NIB-0574—Glove, Exam, Nitrile, Non-Latex, Textured, Midknight, Black, X-Large

6515-00-NIB-8229—Glove, Vinyl, Powder-Free, Evolution One, Natural Color, X-Small

6515-00-NIB-8230—Glove, Vinyl, Powder-Free, Evolution One, Natural Color, Small

6515-00-NIB-8231—Glove, Vinyl, Powder-Free, Evolution One, Natural Color, Medium

6515-00-NIB-8232—Glove, Vinyl, Powder-Free, Evolution One, Natural Color, Large

6515-00-NIB-8233—Glove, Vinyl, Powder-Free, Evolution One, Natural Color, X-Large

6515-00-NIB-8235—Glove, Exam, Nitrile, Non-Latex, Textured, Midknight, Black, X-Small

Mandatory for: 100% of the requirement of the Federal Bureau of Investigation (FBI)

Mandatory Source(s) of Supply: Central Association for the Blind & Visually Impaired, Utica, NY

Contracting Activity: Dept of Justice, Federal Bureau of Investigation

Distribution: C-List

Service

Service Type: Mailroom Operation Service

Mandatory for:

Missile Defense Agency, MDA Mailroom

Schriever AFB, CO

Mandatory Source(s) of Supply: Huntsville Rehabilitation Foundation, Huntsville, AL

Contracting Activity: Missile Defense Agency, Huntsville, AL

Deletions

On 12/9/2016 (81 FR 89086) and 12/16/2016 (81 FR 91140-91141), the Committee for Purchase From People Who Are Blind or Severely Disabled published notices of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s): 7510-00-272-9804—Envelope, Transparent, 6-1/2″ x 10-1/2″, Clear Plastic, Job Ticket Holder

Mandatory Source(s) of Supply: UNKNOWN

Contracting Activity: General Services Administration, New York, NY

NSN(s)—Product Name(s): 6910-04-000-4482—Chalkboard

6910-04-000-4485—Chalkboard

Mandatory Source(s) of Supply: Tuscola County Community Mental Health Authority, Caro, MI

Contracting Activity: USPS, Topeka Purchasing Center

NSN(s)—Product Name(s): 2540-00-591-1108—Seat, Vehicular

Mandatory Source(s) of Supply: Tuscola County Community Mental Health Authority, Caro, MI

Contracting Activity: Defense Logistics Agency Land and Maritime

NSN(s)—Product Name(s):

2510-00-179-7093—Side Rack, Vehicle

2510-00-590-9734—Side Rack, Vehicle Body

Mandatory Source(s) of Supply: Tuscola County Community Mental Health Authority, Caro, MI

Contracting Activity: W4GG HQ US Army TACOM

Service

Service Type: Document Destruction Service

Mandatory for: Internal Revenue Service Office at the following location: 2725 N. Westwood Blvd., Poplar Bluff, MO

Mandatory Source(s) of Supply: Cape Girardeau Community Sheltered Workshop, Inc., Cape Girardeau, MO

Contracting Activity: Department of the Treasury

Barry S. Lineback,
Director, Business Operations.

[FR Doc. 2017-00688 Filed 1-12-17; 8:45 am]

BILLING CODE 6353-01-P